MORRIS K. UDALL AND STEWART L. UDALL FOUNDATION

Sunshine Act Meetings

TIME AND DATE: 9 a.m. to 5 p.m., Thursday, October 10, 2013.

PLACE: The offices of the Morris K. Udall and Stewart L. Udall Foundation, 130 South Scott Avenue, Tucson, AZ 85701.

STATUS: This meeting of the Board of Trustees will be open to the public, unless it is necessary for the Board to consider items in executive session.

MATTERS TO BE CONSIDERED: (1) Minutes of the June 10-11, 2013, Board of Trustees Meeting and resolution conferring upon David J. Hayes the position of Trustee Emeritus of the Morris K. Udall and Stewart L. Udall Foundation; (2) Appropriations Update; (3) Financial and Management Report and resolution to ratify the Executive Committee vote approving the new Udall Foundation Senior Management structure; (4) Ethics Training Update and General Counsel's Report; (5) U.S. Institute for Environmental Conflict Resolution Report; (6) Education Programs Report and resolution to elect G. Stephen Mason to the Board of Directors of Parks in Focus Fund, Inc.; (7) Udall Center for Studies in Public Policy, Native Nations Institute, and Udall Archives Report & Work Plan and resolutions regarding allocation and transfer of funds; and (8) personnel matters.

PORTIONS OPEN TO THE PUBLIC: All agenda items except as noted below.

PORTIONS CLOSED TO THE PUBLIC: Executive session to review personnel matters.

CONTACT PERSON FOR MORE INFORMATION: Philip J. Lemanski, Executive Director, 130 South Scott Avenue, Tucson, AZ 85701, (520) 901-8500.

Dated: September 23, 2013.
Elizabeth E. Monroe,
Executive Assistant, Morris K. Udall and Stewart L. Udall Foundation, and Federal Register Liaison Officer.

[FR Doc. 2013-23616 Filed 9-30-13; 8:45 am]

BILLING CODE 6820-FN-P